NATIONAL SCIENCE FOUNDATION

Special Emphasis Panel in Civil and Mechanical Systems; Notice of Meeting

In accordance with the Federal Advisory Committee Act (Pub. L. 92-463, as amended), the National Science Foundation announces the following meetings of the Special Emphasis Panel in Civil and Mechanical Systems (1205):

Date and Time: November 13-14, 2000, 8 a.m. to 5 p.m.

Place: 4201 Wilson Boulevard, Room 470, Arlington, VA.

Contact Person: Dr. Thomas Anderson, Program Director Network for Engineering Simulation, Division of Civil and Mechanical Systems, National Science Foundation, 4201 Wilson Boulevard, Room 545, Arlington, VA 22230. Telephone: (703) 292-8360.

Agenda: To review and evaluate nominations for the FY'01 NEES Equipment Portfolio Construction and Management Team Review Panel as part of the selection process for awards.

Date and Time: November 20-21, 2000, 8 a.m. to 5 p.m.

Place: 4201 Wilson Boulevard, Room 380, Arlington, VA.

Contact Person: Dr. Miriam Heller, Program Director, Information Technology and Infrastructure Systems, Division of Civil and Mechanical Systems, National Science Foundation, 4201 Wilson Boulevard, Room 545, Arlington, VA 22230. Telephone: (703) 292-8360.

Agenda: To review and evaluate nominations for the FY'00 Mechanics and Structures of Materials and Surface Engineering and Material Design Review Panel as part of the selection process for awards.

Date and Time: December 14-15, 2000, 8 a.m. to 5 p.m.

Place: 4201 Wilson Boulevard, Room 380, Arlington, VA.

Contact Person: Dr. Miriam Heller, Program Director, Information Technology and Infrastructure Systems, Division of Civil and Mechanical Systems, National Science Foundation, 4201 Wilson Boulevard, Room 545, Arlington, VA 22230. Telephone: (703) 292-8360.

Agenda: To review and evaluate nominations for the FY'00 Mechanics and Structures of Materials and Surface Engineering and Material Design Review Panel as part of the selection process for awards.

Type of Meetings: Closed.

Purpose of Meetings: To provide advice and recommendations concerning proposals submitted to NSF for financial support.

Reason for Closing: The proposals being reviewed include information of a proprietary or confidential nature, including technical information; financial data, such as salaries and personal information concerning individuals associated with the proposals. These matters are exempt under 5 U.S.C. 552b(c), (4) and (6) of the Government in the Sunshine Act.

Dated: October 16, 2000.
Karen J. York,
Committee Management Officer.

[FR Doc. 00-26978 Filed 10-19-00; 8:45 am]

BILLING CODE 7555-01-M